DEPARTMENT OF DEFENSE

Office of the Secretary

[Docket ID: DoD-2008-OS-0039]

Privacy Act of 1974; System of Records

AGENCY: National Reconnaissance Office, DoD.

ACTION: Notice to Add a System of Records.

SUMMARY: The National Reconnaissance Office (NRO) proposes to add a system of records to its inventory of system of records notice systems subject to the Privacy Act of 1974, (5 U.S.C. 552a), as amended.

DATES: This proposed action will be effective without further notice on May 30, 2008 unless comments are received which result in a contrary determination.

ADDRESSES: Send comments to the FOIA/Privacy Official, National Reconnaissance Office, Information Access and Release, 14675 Lee Road, Chantilly, VA 20151-1715.

FOR FURTHER INFORMATION CONTACT: Ms. Theresa Lamm at (703) 227-9152.

SUPPLEMENTARY INFORMATION: The National Reconnaissance Office systems of records notices subject to the Privacy Act of 1974, (5 U.S.C. 552a), as amended, have been published in the Federal Register and are available from the address above.

The proposed system report, as required by 5 U.S.C. 552a(r) of the Privacy Act of 1974, as amended, was submitted on April 22, 2008, to the House Committee on Oversight and Government Reform, the Senate Committee on Governmental Affairs, and the Office of Management and Budget (OMB) pursuant to paragraph 4c of Appendix I, ‘Federal Agency Responsibilities for Maintaining Records About Individuals’, to OMB Circular No. A-130, dated February 8, 1996 (February 20, 1996, 61 FR 6427).

Dated: April 23, 2008.
Patricia Toppings,
OSD Federal Register Liaison Officer, Department of Defense.

QNRO-27

System name:

Legal Records

System location:

Office of General Counsel, National Reconnaissance Office (NRO), 14675 Lee Road, Chantilly, VA 20151-175.

Categories of individuals covered by the system:

Government and contractor employees, litigants, and claimants.

Categories of records in the system:

Individual's name, Social Security Number (SSN), employee number, parent organization, company, home and work telephone number, work location, personal financial data, date and place of birth, home address, current citizenship status; procurement experience, future employment plans, and any other relevant information.

Authority for maintenance of the system:

50 U.S.C. 401 et seq., Federal Tort Claims Act; 28 U.S.C. 1346; 28 U.S.C. 535; Federal Records Act of 1950, 44 U.S.C. 3101 and 5 CFR Section 2634.202, National Security Act of 1947, as amended and E.O. 9397 (SSN).

Purpose(s):

To manage the legal files related to matters of standards of conduct and litigation. This will ensure legal sufficiency of NRO operations, policies, procedures, and personnel actions. The General Counsel Litigation case files are maintained for legal opinions, legal reviews, or other actions. In addition, the systems are maintained for statutory compliance with the crime reporting requirements.

Routine uses of records maintained in the system, including categories of users and the purposes of such uses:

In addition to those disclosures generally permitted under 5 U.S.C. 552a(b) of the Privacy Act, these records or information contained therein may specifically be disclosed outside the NRO as a routine use pursuant to 5 U.S.C. 552a(b)(3) as follows:

To U.S. Attorneys and other parties in litigation.

To Federal and state courts in connection with litigations affecting NRO interests, employees or equities.

To a federal, state, local or foreign agency maintaining civil, criminal, or other relevant enforcement information or other pertinent information, if deemed relevant to that agency's decisions concerning the hiring or retention of an employee, issuance of a security clearance, letting of a contract, or issuance of a license or other benefit.

The DoD ‘Blanket Routines Uses’ published at the beginning of the NRO compilation of systems of records notices apply to this system.

Policies and practices for storing, retrieving, accessing, retaining, and disposing of records in the system:

Storage:

Hard copy and electronic storage media.

Retrievability:

Individual's name.

Safeguards:

Records are stored in a secure, gated facility, guard, badge, and password access protected. Access to and use of these records is limited to legal staff whose official duties require such access.

Retention and disposal:

Standards of Conducts files are maintained for six (6) years and then destroyed.

Legal Subject Files (to include crimes reports) are maintained until no longer needed.

Litigation case files that reflect distinctive NRO activities, attract media or congressional interest, or are otherwise historically significant are kept permanently.

All other case files are kept until all appellate rights have been exhausted or when no longer needed, whichever is later.

System manager(s) and address:

Director, National Reconnaissance Office, Office of General Counsel, 14675 Lee Road, Chantilly, VA 20151-1715.

Notification procedure:

Individuals seeking to determine whether this system of records contains information about themselves should address written inquiries to the National Reconnaissance Office, Information Access and Release Center, 14675 Lee Road, Chantilly, VA 20151-1715.

Request should include full name and any aliases or nicknames, address, Social Security Number (SSN), current citizenship status, date and place of birth, and other information identifiable from the record.

In addition, the requester must provide a notarized statement or an unsworn declaration in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Record access procedures:

Individuals seeking to access information about themselves contained in this system should address written inquiries to the National Reconnaissance Office, Information Access and Release Center, 14675 Lee Road, Chantilly, VA 20151-1715.

Request should include full name and any aliases or nicknames, address, Social Security Number (SSN), current citizenship status, date and place of birth, and other information identifiable from the record.

In addition, the requester must provide a notarized statement or an unsworn declaration in accordance with 28 U.S.C. 1746, in the following format:

If executed outside the United States: I declare (or certify, verify, or state) under penalty of perjury under the laws of the United States of America that the foregoing is true and correct. Executed on (date). (Signature).

If executed within the United States, its territories, possessions, or commonwealths: I declare (or certify, verify, or state) under penalty of perjury that the foregoing is true and correct. Executed on (date). (Signature).

Contesting record procedures:

The NRO procedure for accessing records, for contesting contents and appealing initial agency determinations are published in NRO Directive 110-3b and NRO Instruction 110-3-1; 32 CFR part 326; or may be obtained from the Privacy Act Coordinator, National Reconnaissance Office, 14675 Lee Road, Chantilly, VA 20151-1715.

Record source categories:

Information is supplied by the individual, federal and state agencies, corporations, associations, partnerships, other legal entities; and other NRO records systems.

Exemptions claimed for the system:

Parts of this system may be exempt pursuant to 5 U.S.C. 552a(j)(2) if the information is compiled and maintained by a component of the agency that performs as its principle function any activity pertaining to the enforcement of criminal laws.

Information specifically authorized to be classified under E.O. 12958, as implemented by DoD 5200.1-R, may be exempt pursuant to 5 U.S.C. 552a(k)(1).

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information exempt to the extent that disclosure would reveal the identity of a confidential source. NOTE: When claimed, this exemption allows limited protection of investigative reports maintained in a system of records used in personnel or administrative actions.

Investigatory material compiled solely for the purpose of determining suitability, eligibility, or qualifications for federal civilian employment, military service, federal contracts, or access to classified information may be exempt pursuant to 5 U.S.C. 552a(k)(5), but only to the extent that such material would reveal the identity of a confidential source.

Testing or examination material used solely to determine individual qualifications for appointment or promotion in the federal or military service, if the disclosure would compromise the objectivity or fairness of the test or examination process may be exempt pursuant to 5 U.S.C. 552a(k)(6), if the disclosure would compromise the objectivity or fairness of the test or examination process.

Evaluation material used to determine potential for promotion in the Military Services may be exempt pursuant to 5 U.S.C. 552a(k)(7), but only to the extent that the disclosure of such material would reveal the identify of a confidential source.

An exemption rule for this exemption has been promulgated in accordance with requirements of 5 U.S.C. 553(b)(1), (2), and (3), (c) and (e) and published in 32 CFR part 326. For additional information contact the system manager.

[FR Doc. E8-9400 Filed 4-29-08; 8:45 am]

BILLING CODE 5001-06-P